DEPARTMENT OF DEFENSE

Department of the Navy

[USN-2007-0036]

Privacy Act of 1974; System of Records

AGENCY: Department of the Navy, DoD.

ACTION: Notice to Alter a System of Records.

SUMMARY: The Department of the Navy proposes to alter a system of records notice in its existing inventory of records systems subject to the Privacy Act of 1974, (5 U.S.C. 552a), as amended.

DATES: This proposed action will be effective without further notice on July 5, 2007 unless comments are received which result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-325-6545.

SUPPLEMENTARY INFORMATION: The Department of the Navy's systems of records notices subject to the Privacy Act of 1974, (5 U.S.C. 552a), as amended, have been published in the Federal Register and are available from the address above.

The proposed system reports, as required by 5 U.S.C. 552a (r), of the Privacy Act of 1974, as amended, were submitted on May 24, 2007, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: May 29, 2007.
C.R. Choate,
Alternate OSD Federal Register Liaison Officer, Department of Defense.

N01560-1

System Name:

Navy College Management Information System (NCMIS) (April 24, 2002, 67 FR 20100).

Changes:

System identification:

Delete entry and replace with “NM01560-1.”

* * * * *

Categories of individuals covered by the system:

Delete entry and replace with “Navy and Marine Corps military personnel and Coast Guard Civil Service and service members who receive tuition assistance (TA); dependents of Marine Corp service members OCONUS who receive tuition assistance (TA); Navy service members who participate in the Navy College Program for Afloat College Education (NCPACE); Navy service members who participate in the Seaman To Admiral 21st Century Program (STA21), The Advanced Enlisted Voucher Program (AEV) and the Graduate Education Voucher program (GEV); Navy, Marine Corps, Adult Family Members (AFM) of service members; and Civil Service employees who participate in the Academic Skills Program.”

* * * * *

Authority for maintenance of the system:

Delete entry and replace with “10 U.S.C. 5013, Secretary of the Navy and E.O. 9397 (SSN).”

Purpose(s):

Delete entry and replace with: “To maintain information on participants in the tuition assistance (TA), Navy College Program for Afloat College Education (NCPACE), Academic Skills programs, the Seaman to Admiral 21st Century Program (STA21), the Advanced Enlisted Voucher Program (AEV) and the Graduate Education Voucher program (GEV); to provide information to education counselors for the purpose of determining TA eligibility; education and degree plans; and course selection and eligibility; to provide information to fiscal and accounting personnel for the purpose of financial management and funds disbursement; to provide supervisory and management personnel access to the individual's degree and course completion records via the Electronic Training Jacket produced by the Navy Training Management and Planning System (NTMPS) for the purpose of personnel evaluation; determining special program eligibility, and duty assignments; and to provide degree and course completion information to NTMPS and enlisted master file in the form of an electronic extract.”

* * * * *

Record source categories: Delete entry and replace with “Subject individual, Corporate Enterprise and Training Activity Resource System (CETARS) Standard Training Activity Support System (STASS), Navy Personnel Command, Application for Tuition, the Marine Corps and Coast Guard personnel systems extracts, Assistance Form (NAVMC 10883), education counselors, educational institutions, Tuition Assistance Authorization Form (NAVEDTRA 1560/5), and Academic contractor.”

* * * * *

NM01560-1

System name:

Navy College Management Information System

System location:

Naval Education and Training Professional Development and Technology Center, 6490 Saufley Field Road, Pensacola, FL 32509-5241.

Categories of individuals covered by the system:

Navy and Marine Corps military personnel and Coast Guard Civil Service and service members who receive tuition assistance (TA); dependents of Marine Corp service members OCONUS who receive tuition assistance (TA); Navy service members who participate in the Navy College Program for Afloat College Education (NCPACE); Navy service members who participate in the Seaman To Admiral 21st Century Program (STA21), The Advanced Enlisted Voucher Program (AEV) and the Graduate Education Voucher program (GEV); and, Navy, Marine Corps, Adult Family Members (AFM) of service members and Civil Service employees who participate in the Academic Skills Program.

Categories of records in the system:

Individual's application for tuition assistance; personnel data; counseling notes and education plans; degree, course completion and grade reports from academic institutions and contract training providers; authorization for disbursement; and agency approval/disapproval.

Authority for the maintenance of the system:

10 U.S.C. 5013, Secretary of the Navy and E.O. 9397 (SSN).

Purpose(s):

To maintain information on participants in the tuition assistance (TA), Navy College Program for Afloat College Education (NCPACE), Academic Skills programs, the Seaman to Admiral 21st Century Program (STA21), the Advanced Enlisted Voucher Program (AEV) and the Graduate Education Voucher program (GEV); to provide information to education counselors for the purpose of determining TA eligibility; education and degree plans; and course selection and eligibility; to provide information to fiscal and accounting personnel for the purpose of financial management and funds disbursement; to provide supervisory and management personnel access to the individual's degree and course completion records via the Electronic Training Jacket produced by the Navy Training Management and Planning System (NTMPS) for the purpose of personnel evaluation; determining special program eligibility, and duty assignments; and to provide degree and course completion information to NTMPS and EMF in the form of an electronic extract.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To U.S. Coast Guard Voluntary Education Program Office for the purpose of education counseling, financial management, and funds disbursement.

The DoD ‘Blanket Routine Uses’ set forth at the beginning of the Navy's compilation of systems of records notices also apply to this system.

Policies and practices for storing, retrieving, accessing, retaining, and disposing of records in the system:

Storage:

Paper records in file folders and electronic storage media.

Retrievability:

By individual's name, Social Security Number (SSN), and branch of service.

Safeguards:

Paper copies of tuition applications are maintained in file cabinets under the control of authorized personnel during working hours; the office space in which the file cabinets are located is locked outside official working hours. Automated records are password protected.

Retention and disposal:

Paper and/or electronic copies of the individual's signed Tuition Assistance applications are retained at the originating NCO for three years and then shredded or burned. Copies of tuition assistance authorizations for officers are maintained in their official personnel record for two years following the completion of courses paid by tuition assistance. All other records are maintained in electronic format within NCMIS indefinitely.

System manager(s) and address:

Commanding Officer, Naval Education and Training Professional Development and Technology Center, 6490 Saufley Field Road, Pensacola, FL 32509-5241.

Notification procedure:

Individuals seeking to determine whether information about them is contained in this system should address written inquiries to the Commanding Officer, Naval Education and Training Professional Development and Technology Center, 6490 Saufley Field Road, Pensacola, FL 32509-5241.

Individuals should provide their full name, Social Security Number (SSN), branch of service, and signature.

Record access procedures:

Individuals seeking access to information about them contained in this system should address written inquiries to the Commanding Officer, Naval Education and Training Professional Development and Technology Center, 6490 Saufley Field Road, Pensacola, FL 32509-5241.

Individuals should provide their full name, Social Security Number (SSN), branch of service, and signature.

Contesting record procedures:

The Navy's rules for accessing records, and for contesting contents and appealing initial agency determinations are published in Secretary of the Navy Instruction 5211.5; 32 CFR part 701; or may be obtained from the system manager.

Record source categories:

Subject individual, Corporate Enterprise and Training Activity Resource System (CETARS) Standard Training Activity Support System (STASS), Navy Personnel Command, Application for Tuition, the Marine Corps and Coast Guard personnel systems extracts, Assistance Form (NAVMC 10883), education counselors, educational institutions, Tuition Assistance Authorization Form (NAVEDTRA 1560/5), and Academic contractor.

Exemptions claimed for the system:

None.

[FR Doc. E7-10683 Filed 6-1-07; 8:45 am]

BILLING CODE 5001-06-P